DEPARTMENT OF COMMERCE

International Trade Administration

(C-570-921)

Lightweight Thermal Paper from the People's Republic of China: Notice of Amended Final Affirmative Countervailing Duty Determination and Notice of Countervailing Duty Order

AGENCY: Import Administration, International Trade Administration, Department of Commerce.

SUMMARY: Based on an affirmative final determination by the International Trade Commission (ITC) and an amended affirmative final determination by the Department of Commerce (the Department), the Department is issuing this countervailing duty order on lightweight thermal paper (LWTP) from the People's Republic of China (PRC). The Department is amending its final determination to correct certain ministerial errors as explained below.

EFFECTIVE DATE: November 24, 2008.

FOR FURTHER INFORMATION CONTACT: David Layton or Scott Holland at (202) 482-0371 and (202) 482-1279, respectively, Import Administration, International Trade Administration, U.S. Department of Commerce, 14th Street and Constitution Avenue, NW, Washington, DC 20230.

Background

On October 2, 2008, the Department published its final determination in the countervailing duty investigation of LWTP from the PRC. See Lightweight Thermal Paper from the People's Republic of China: Final Affirmative Countervailing Duty Determination, 73 FR 57323 (October 2, 2008) and corresponding “Issues and Decision Memorandum” (Final Determination).

On November 17, 2008, the ITC notified the Department of its final determination pursuant to sections 705(d) and 705(b)(1)(A)(ii) of the Tariff Act of 1930, as amended (the Act), that an industry in the United States is threatened with material industry by reason of subsidized imports of subject merchandise from the PRC. See Letter from the ITC to the Secretary of Commerce, “Notification of Final Affirmative Determination of Lightweight Thermal Paper from the People's Republic of China” (Investigation Nos. 701-TA-451 and 731-TA-1126-1127 (Final) (November 17, 2008). Pursuant to section 706(a) of the Act, the Department is publishing a countervailing duty order on the subject merchandise.

Scope of the Order

The merchandise covered by this order includes certain lightweight thermal paper, which is thermal paper with a basis weight of 70 grams per square meter (g/m²) (with a tolerance of ± 4.0 g/m²) or less; irrespective of dimensions;¹ with or without a base coat² on one or both sides; with thermal active coating(s)³ on one or both sides that is a mixture of the dye and the developer that react and form an image when heat is applied; with or without a top coat;⁴ and without an adhesive backing. Certain lightweight thermal paper is typically (but not exclusively) used in point-of-sale applications such as ATM receipts, credit card receipts, gas pump receipts, and retail store receipts. The merchandise subject to this order may be classified in the Harmonized Tariff Schedule of the United States (“HTSUS”) under subheadings 4811.90.8040, 4811.90.9090, 3703.10.60, 4811.59.20, 4820.10.20, and 4823.40.00.⁵ Although HTSUS subheadings are provided for convenience and customs purposes, the written description of the scope of this order is dispositive.

¹ LWTP is typically produced in jumbo rolls that are slit to the specifications of the converting equipment and then converted into finished slit rolls. Both jumbo and converted rolls (as well as LWTP in any other form, presentation, or dimension) are covered by the scope of these orders.

² A base coat, when applied, is typically made of clay and/or latex and like materials and is intended to cover the rough surface of the paper substrate and to provide insulating value.

³ A thermal active coating is typically made of sensitizer, dye, and co-reactant.

⁴ A top coat, when applied, is typically made of polyvinyl acetone, polyvinyl alcohol, and/or like materials and is intended to provide environmental protection, an improved surface for press printing, and/or wear protection for the thermal print head.

⁵ HTSUS subheading 4811.90.8000 was a classification used for LWTP until January 1, 2007. Effective that date, subheading 4811.90.8000 was replaced with 4811.90.8020 (for gift wrap, a non-subject product) and 4811.90.8040 (for “other” including LWTP). HTSUS subheading 4811.90.9000 was a classification for LWTP until July 1, 2005. Effective that date, subheading 4811.90.9000 was replaced with 4811.90.9010 (for tissue paper, a non-subject product) and 4811.90.9090 (for “other,” including LWTP).

Amendment to the Final Determination

On October 14, 2008, the petitioner⁶ filed timely allegations stating that the Department made four ministerial errors in its final determination. Respondent Guangdong Guanhao High-Tech Co., Ltd. (“GG”) and its affiliated input supplier, Zhanjiang Guanlong Paper Industrial Co., Ltd. (“ZG”) (collectively, “the respondents”) responded to the petitioner's allegations on October 20, 2008, stating that the petitioner failed to document and explain how the issues it had raised constituted ministerial errors as defined by the regulation. The respondents did not address the specifics of petitioner's allegations.

⁶ The petitioner in this case is Appleton Papers Inc. (“Petitioner”).

After analyzing the comments received, we have determined, in accordance with 19 CFR 351.224(e), that we made three ministerial errors in our calculations performed for the final determination.⁷

⁷ See generally Memorandum to Susan Kuhbach, Director, Office 1, AD/CVD Operations from Nancy Decker, Program Manager, Office 1, “Countervailing Duty Investigation: Lightweight Thermal Paper from the People's Republic of China: Ministerial Error Allegations” (October 29, 2008) (“Ministerial Error Allegations Memo”).

In summary, the petitioner contended that, the Department made errors in calculating the benefit from GG's policy loans, including incorrectly calculating the number of days outstanding for certain short-term loans, applying an incorrect short-term benchmark to another loan and miscalculating the benchmark interest rate for certain long-term loans to ZG. The Department agrees with the petitioner that certain of these three errors constitute ministerial errors that warrant correction. We are correcting these errors with this notice. See Ministerial Error Allegations Memo at pages 3-5.

As a result of correcting these errors, the countervailing duty rate calculated for GG has changed from 13.17 percent to 13.63 percent. Because the other rates calculated in our final determination relied in part on GG's policy loan rate, we are also amending those rates. The countervailing duty calculated for Shenzhen Yuanming Industrial Development Co., Ltd. has changed from 137.25 percent to 138.53 percent, the countervailing duty calculated for MDCN Technology Co., Ltd. and Xiamen Anne Paper Co., Ltd. has changed from 123.65 percent to 124.93 percent, and the countervailing duty calculated for all-other exporters has changed from 13.17 percent to 13.63 percent. In accordance with 19 CFR 351.224(e), we are amending the final determination in the countervailing duty investigation of LWTP from the PRC to reflect these changes.

Countervailing Duty Order

In accordance with section 706(a)(1) of the Act, the Department will direct U.S. Customs and Border Protection (CBP) to assess, upon further instruction by the Department, countervailing duties equal to the amount of the net countervailable subsidy for all relevant entries of LWTP from the PRC.

According to section 706(b)(2) of the Act, duties shall be assessed on subject merchandise entered, or withdrawn from warehouse, for consumption on or after the date of publication of the ITC's notice of final determination if that determination is based upon the threat of material injury. Section 706(b)(1) of the Act states, “If the Commission, in its final determination under section 705(b), finds material injury or threat of material injury which, but for the suspension of liquidation under section 703(d)(2), would have led to a finding of material injury, then entries of the merchandise subject to the countervailing duty order, the liquidation of which has been suspended under section 703(d)(2), shall be subject to the imposition of countervailing duties under section 701(a).” In addition, section 706(b)(2) of the Act requires CBP to refund any cash deposits or bonds of estimated countervailing duties posted since the Department's preliminary countervailing duty determination, if the ITC's final determination is threat-based. Because the ITC's final determination in this case is based on the threat of material injury and is not accompanied by a finding that injury would have resulted but for the imposition of suspension of liquidation of entries since the Department's preliminary determination was published in the Federal Register,⁸ section 706(b)(2) of the Act is applicable.

⁸ See Lightweight Thermal Paper from the People's Republic of China: Preliminary Affirmative Countervailing Duty Determination and Alignment of Final Countervailing Duty Determination with Final Antidumping Duty Determination, 73 FR 13850 (March 14, 2008) (Preliminary Determination).

Therefore, the Department will direct CBP to reinstitute suspension of liquidation,⁹ and to assess, upon further instruction from the Department, countervailing duties on all unliquidated entries of LWTP from the PRC entered, or withdrawn from warehouse, for consumption on or after the date of publication of the ITC's notice of final determination of threat of material injury in the Federal Register.

⁹ The Department instructed CBP to discontinue the suspension of liquidation on July 12, 2008, in accordance with section 703(a) of the Act. Section 703(d) states that the suspension of liquidation pursuant to a preliminary determination may not remain in effect for more than four months.

Cash Deposit Requirements

Effective on the date of publication of the ITC's notice of final determination in the Federal Register, CBP will require, at the same time as importers would normally deposit estimated duties, cash deposits for the subject merchandise equal to the net subsidy rates listed below. See section 706(a)(3) of the Act. The all-others rate applies to all producers and exporters of subject merchandise not specifically listed.

Exporter/Manufacturer | Net Subsidy Rate
Guangdong Guanhao High-Tech Co., Ltd. | 13.63
Shanghai Hanhong Paper Co., Ltd. | 0.57 (de minimis)
Shenzhen Yuanming Industrial Development Co., Ltd. | 138.53
MDCN Technology Co., Ltd. | 124.93
Xiamen Anne Paper Co., Ltd. | 124.93
All Others | 13.63

Termination of the Suspension of Liquidation

The Department will also instruct CBP to terminate the suspension of liquidation for entries of LWTP from the PRC entered, or withdrawn from warehouse, for consumption prior to the publication of the ITC's notice of final determination, and refund any cash deposits made and release any bonds posted between the publication of the Department's preliminary determination on March 14, 2008, and the publication of the ITC's final determination in the Federal Register.

This notice constitutes the countervailing duty order with respect to LWTP from the PRC, pursuant to section 706(a) of the Act. Interested parties may contact the Department's Central Records Unit, Room 1117 of the Main Commerce Building, for copies of an updated list of countervailing duty orders currently in effect.

This order is issued and published in accordance with section 706(a) of Act, 19 CFR 351.224(e), and 19 CFR 351.211(b).

Dated: November 19, 2008.
Steven J. Claeys,
Deputy Assistant Secretary for Antidumping and Countervailing Duty Operations.

[FR Doc. E8-27978 Filed 11-21-08; 8:45 am]

BILLING CODE 3510-DS-S